DEPARTMENT OF COMMERCE

National Oceanic and Atmospheric Administration

[I.D. 073102A]

Western Pacific Fishery Management Council; Public Meeting; Correction

AGENCY: National Marine Fisheries Service (NMFS), National Oceanic and Atmospheric Administration (NOAA), Commerce.

ACTION: Notice of change of dates of a public meeting.

SUMMARY: The Western Pacific Fishery Management Council’s (Council) Community Demonstration Project Program Advisory Panel will convene a public meeting.

DATES: The meetings will be held on Wednesday, August 21, 2002, through Friday, August 23, 2002.

ADDRESSES: The meetings will be held at the Council Office, 1164 Bishop Street, Suite 1400, Honolulu, HI; telephone: 808-522-8220.

FOR FURTHER INFORMATION CONTACT: Kitty M. Simonds, Executive Director; telephone: 808-522-8220.

SUPPLEMENTARY INFORMATION: The initial notification of this meeting was published in the Federal Register on August 5, 2002, (67 FR 50632). In the SUPPLEMENTARY INFORMATION of the original notice, it stated that the meeting dates were August 22 through August 24, 2002. This notice corrects those dates to read August 21 through August 23, 2002.

All other information previously published remains the same.

Dated: August 6, 2002.
Theophilus W. Brainerd,
Acting Director, Office of Sustainable Fisheries, National Marine Fisheries Service.

[FR Doc. 02-20217 Filed 8-8-02; 8:45 am]

BILLING CODE 3510-22-S